DEPARTMENT OF ENERGY

Federal Energy Regulatory Commission

Combined Notice of Filings #1

Take notice that the Commission received the following electric corporate filings:

Docket Numbers: EC20-21-000.

Applicants: Golden Fields Solar II, LLC, Golden Fields Solar III, LLC, Golden Fields Solar IV, LLC.

Description: Joint Application for Authorization Under Section 203 of the Federal Power Act, et al. of Golden Fields Solar II, LLC, et al.

Filed Date: 12/3/19.

Accession Number: 20191203-5102.

Comments Due: 5 p.m. ET 12/24/19.

Take notice that the Commission received the following electric rate filings:

Docket Numbers: ER10-3285-003; ER10-3177-001; ER17-177-002; ER17-991-008; ER10-3181-004.

Applicants: UGI Utilities Inc., UGI Energy Services, LLC, UGI Development Company, Hunlock Energy, LLC.

Description: Updated Triennial Market Power Analysis for the Northeast Region and Notice of Non-Material Change in Status of the UGI MBR Companies.

Filed Date: 12/2/19.

Accession Number: 20191202-5147.

Comments Due: 5 p.m. ET 1/31/20.

Docket Numbers: ER19-90-005.

Applicants: Clean Energy Future—Lordstown, LLC.

Description: Compliance filing: Settlement Compliance Filing to be effective 12/1/2018.

Filed Date: 12/3/19.

Accession Number: 20191203-5039.

Comments Due: 5 p.m. ET 12/24/19.

Docket Numbers: ER19-1553-000.

Applicants: Southern California Edison Company.

Description: Annual Formula Transmission Rate Update Filing (TO2020) of Southern California Edison Company.

Filed Date: 11/22/19.

Accession Number: 20191122-5139.

Comments Due: 5 p.m. ET 12/13/19.

Docket Numbers: ER20-503-000.

Applicants: San Diego Gas & Electric Company.

Description: Second Annual Informational Filing [Cycle 2] of Fifth Transmission Owner Rate Formula rate mechanism of San Diego Gas & Electric Company.

Filed Date: 12/2/19.

Accession Number: 20191202-5148.

Comments Due: 5 p.m. ET 12/23/19.

Docket Numbers: ER20-504-000.

Applicants: AL Mesquite Marketing, LLC.

Description: Tariff Cancellation: Notice of Cancellation to be effective 12/4/2019.

Filed Date: 12/3/19.

Accession Number: 20191203-5036.

Comments Due: 5 p.m. ET 12/24/19.

Docket Numbers: ER20-505-000.

Applicants: Deseret Generation & Transmission Co-operative, Inc.

Description: § 205(d) Rate Filing: 2019 RIA Annual Update to be effective 7/1/2019.

Filed Date: 12/3/19.

Accession Number: 20191203-5037.

Comments Due: 5 p.m. ET 12/24/19.

Docket Numbers: ER20-506-000.

Applicants: Southwest Power Pool, Inc.

Description: § 205(d) Rate Filing: 3293R1 Thunderhead Wind Energy GIA to be effective 11/8/2019.

Filed Date: 12/3/19.

Accession Number: 20191203-5045.

Comments Due: 5 p.m. ET 12/24/19.

Docket Numbers: ER20-507-000.

Applicants: Midcontinent Independent System Operator, Inc.

Description: § 205(d) Rate Filing: 2019-12-03_SA 3379 NIPSCO-Meadow Lake Solar Park GIA (J913) to be effective 11/18/2019.

Filed Date: 12/3/19.

Accession Number: 20191203-5077.

Comments Due: 5 p.m. ET 12/24/19.

Docket Numbers: ER20-508-000.

Applicants: Midcontinent Independent System Operator, Inc.

Description: § 205(d) Rate Filing: 2019-12-03_SA 2853 2nd Rev Certificate of Concurrence IMTCO-NIPSCO Agreement to be effective 10/21/2019.

Filed Date: 12/3/19.

Accession Number: 20191203-5122.

Comments Due: 5 p.m. ET 12/24/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 3, 2019.
Nathaniel J. Davis, Sr.,
Deputy Secretary.

[FR Doc. 2019-26518 Filed 12-9-19; 8:45 am]

BILLING CODE 6717-01-P